DEPARTMENT OF TRANSPORTATION

Surface Transportation Board

[STB Finance Docket No. 34147]

Paula J. Mudge-Gibson and Don L. Gibson—Continuance in Control Exemption—Chicago Heights Switching Company

Paula J. Mudge-Gibson and Don L. Gibson, noncarrier individuals (applicants), have filed a verified notice of exemption to continue in control of Chicago Heights Switching Company (CHSC), upon CHSC's becoming a carrier.

This transaction is related to a concurrently filed verified notice of exemption in STB Finance Docket No. 34146, Chicago Heights Switching Company—Operation Exemption—Bulkmatic Railroad Corporation, wherein CHSC seeks to operate a line of railroad subleased by Bulkmatic Railroad Corporation.¹

¹ See Bulkmatic Railroad Corporation-Acquisition Exemption-Bulkmatic Transport Company, STB Finance Docket No. 34145 (STB served Jan. 15, 2002).

The transaction was expected to be consummated on or shortly after December 28, 2001, the effective date of the exemption (7 days after the notice of exemption was filed).

Applicants own and control the Central Illinois Railroad Company (CIRY), which operates in the State of Illinois. Applicants state that: (i) The properties of CIRY and CHSC will not connect with each other or any railroads in their corporate family; (ii) the continuance in control is not part of a series of anticipated transactions that would connect the rail lines of CIRY and CHSC with each other or any railroads in their corporate family; and (iii) the transaction does not involve a Class I carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under sections 11324 and 11325 that involve only Class III rail carriers. Because this transaction involves Class III rail carriers only, the Board, under the statute, may not impose labor protective conditions for this transaction.

If the notice contains false or misleading information, the exemption is void ab initio. Petitions to revoke the exemption under 49 U.S.C. 10502(d) may be filed at any time. The filing of a petition to revoke will not automatically stay the transaction.

An original and 10 copies of all pleadings, referring to STB Finance Docket No. 34147, must be filed with the Surface Transportation Board, Office of the Secretary, Case Control Unit, 1925 K Street, NW., Washington, DC 20423-0001. In addition, a copy of each pleading must be served on Thomas F. McFarland, Thomas F. McFarland, P.C., 208 South LaSalle Street, Suite 1890, Chicago, IL 60604-1194.

Board decisions and notices are available on our website at www.stb.dot.gov.

Decided: January 4, 2002.
By the Board, David M. Konschnik, Director, Office of Proceedings.
Vernon A. Williams,
Secretary.

[FR Doc. 02-764 Filed 1-14-02; 8:45 am]

BILLING CODE 4915-00-P